DEPARTMENT OF TRANSPORTATION

Pipeline and Hazardous Materials Safety Administration

Office of Hazardous Materials Safety, Notice of Application for Special Permits

AGENCY: Pipeline and Hazardous Materials Safety Administration, DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follow: 1—Motor vehicle, 2—Rail freight, 3—Cargo vessel, 4—Cargo aircraft only, 5—Passenger-carrying aircraft.

DATES: Comments must be received on or before October 23, 2006.

Address Comments To: Record Center, Pipeline and Hazardous Materials Safety Administration, U.S. Department of Transportation, Washington, DC 20590.

Comments should refer to the application number and be submitted in triplicate. If Confirmation of receipt of comments if desired, include a self-addressed stamped postcard showing the special permit number.

FOR FURTHER INFORMATION CONTACT: Copies of the applications are available for inspection in the Records Center, Nassif Building, 400 7th Street SW., Washington DC or at http://dms.dot.gov.

This notice of receipt of applications for special permit is published in accordance with Part 107 of the Federal hazardous materials transportation law (49 U.S.C. 5117(b); 49 CFR 1.53(b)).

Issued in Washington, DC, on September 15, 2006.
R. Ryan Posten,
Chief, Special Permits Program, Office of Hazardous Materials, Special Permits & Approvals.

New Special Permits
Application No. | Docket No. | Applicant | Regulation(s) affected | Nature of special permits therof
14393-N | PHMSA-25797 | Hamilton Sundstrand Windsor Locks, CT | 49 CFR 173.306(e)(iii), (iv), (v) and (vi); 173.307(a)(4)(iv) | To authorize the transportation in commerce of new supplemental cooling unit refrigeration machines with alternative safety devices as a component part of an aircraft. (modes 1,2,3,4)
14394-N | PHMSA-25799 | Boeing Company, Kennedy Space Center, FL | 49 CFR 173.302a | To authorize the transportation in commerce of Nitrogen Tank Assemblies by motor vehicle between the Kennedy Space Center and Cape Canaveral Air Force Station not subject to the packaging requirements of the Hazardous Materials Regulations. (mode 1)
14395-N | PHMSA-25782 | Britz Fertilizers, Inc., Fresno, CA | 49 CFR 172, 173, 177 | To authorize the transportation in commerce of a liquid soil fumigant classed as Division 6.1, PG II, in a non-DOT specification bulk packaging mounted on a farm tractor or wagon, not subject to certain requirements of Parts 172 and 177 of the Hazardous Materials Regulations. (mode 1)
14396-N | PHMSA-25783 | Matheson Tri-Gas, Parsippany, NJ | 49 CFR 173.192(a) | To authorize the transportation in commerce of Arsine, Division 2.3, in certain DOT specification and non-DOT specification cylinders not normally authorized for cargo vessel transportation, for export only. (modes 1, 3)
14398-N |  | Lyondell Chemical Company, Houston, TX | 49 CFR 172.203(a); 179.13; 173.31(c)(1) | To authorize the transportation in commerce of Titanium tetrachloride in DOT105J600W tank cars with a maximum gross weight on rail that exceed the maximum limit of 263,000 pounds. (mode 2)
14399-N | PHMSA-25821 | Gas Cylinder Technologies Inc., Tecumseh, Ontario | 49 CFR 173.302a | To authorize the manufacture, marking, sale and use of non-DOT specification cylinders similar to DOT 39 for the transportation of non-flammable, non-liquefied gases. (modes 1, 2, 3, 4, 5)
14400-N | PHMSA-25820 | Ultra Electronics, Alexandria, VA | 49 CFR 172.301, 172.400, 173.306, 175.26 | To authorize the transportation in commerce of Air, compressed in a non-DOT specification high pressure compressor system. (modes 1, 2, 3, 4)
14402-N |  | Lincoln Composites, Lincoln, NE | 49 CFR 173.302a | To authorize the manufacture, marking, sale and use of a non-DOT specification fully wrapped fiber reinforced composite gas cylinders with a non-load sharing plastic liner that meets the ISO 11119-3 standard except for the design water capacity and service pressure. (modes 1, 2, 3, 4, 5)

[FR Doc. 06-7817 Filed 9-20-06; 8:45 am]

BILLING CODE 4909-60-M